DEPARTMENT OF TRANSPORTATION

Federal Aviation Administration

14 CFR Parts 61, 91, 119, 121, 135 and 136

[Docket No. FAA-1998-4521; Notice No. 03-10]

RIN 2120-AF07

National Air Tour Safety Standards

AGENCY: Federal Aviation Administration (FAA), DOT.

ACTION: Notice of proposed rulemaking (NPRM); extension of comment period.

SUMMARY: This action extends the comment period for an NPRM that was published on October 22, 2003 (68 FR 60572). In that document, the FAA proposed to issue regulations to govern commercial air tours throughout the United States. This extension responds to requests received during the comment period for the NPRM.

DATES: The comment period for Notice No. 03-10, published on October 22, 2003 at 68 FR 60572, is extended until April 19, 2004.

ADDRESSES: You may submit comments to DOT DMS Docket Number FAA-1998-4521 by any of the following methods:

• Web Site: http://dms.dot.gov. Follow the instructions for submitting comments on the DOT electronic Docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal Rulemaking Portal: Go to http://www.regulations.gov. Follow the online instructions for submitting comments.

Instructions: All submissions must include the agency name and Docket number or Regulatory Identification Number (RIN) for this rulemaking. For detailed instructions on submitting comments and additional information on the rulemaking process, see the Public Participation heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays

FOR FURTHER INFORMATION CONTACT: Alberta Brown, Flight Standards Service, Air Transportation Division, AFS-200, Federal Aviation Administration, 800 Independence Avenue SW., Washington, DC 20591; telephone (202) 267-8166; e-mail: AlbertaBrown@faa.gov.

SUPPLEMENTARY INFORMATION:

Comments Invited

The FAA invites interested persons to participate in this proposed rulemaking by submitting written comments, data, or views. We also invite comments relating to the economic, environmental, energy, or federalism impact that might result from adopting the proposals in this document. The most helpful comments reference a specific portion of the proposal, explain the reason for any recommended change, and include supporting data. We ask that you send us two copies of written comments.

We will file in the Docket all comments we receive, as well as a report summarizing each substantive public contact with FAA personnel concerning this proposed rulemaking. The Docket is available for public inspection before and after the comment closing date. If you wish to review the Docket in person, go to the address in the ADDRESSES section of this preamble between 9 a.m. and 5 p.m., Monday through Friday, except Federal holidays. You may also review the Docket using the Internet at the Web address in the ADDRESSES section. Before acting on this proposal, we will consider all comments we receive on or before the closing date for comments. We will consider comments filed late if it is possible to do so without incurring expense or delay. We may change this proposal in light of the comments we receive.

Privacy Act: Using the search function of our Docket Web site, anyone can find and read the comments received into any of our Dockets, including the name of the individual sending the comment (or signing the comment on behalf of an association, business, labor union, etc.). You may review DOT's complete Privacy Act Statement in the Federal Register published on April 11, 2000 (65 FR 19477-78) or you may visit http://dms.dot.gov.

If you want the FAA to acknowledge receipt of your comments on this proposal, include with your comments a pre-addressed, stamped postcard on which the Docket number appears. We will stamp the date on the postcard and mail it to you.

Regulatory Notices

Privacy Act: Anyone is able to search the electronic form of all comments received into any of our Dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Availability of Rulemaking Documents

You can get an electronic copy using the Internet by taking the following steps:

(1) Go to the search function of the Department of Transportation's electronic Docket Management System (DMS) Web page (http://dms.dot.gov/search).

(2) On the search page type in the last five digits of the Docket number shown at the beginning of this notice. Click on “search.”

(3) On the next page, which contains the Docket summary information for the Docket you selected, click on the document number of the item you wish to view.

You can also get an electronic copy using the Internet through FAA's Web page at http://www.faa.gov/avr/arm/ or the Federal Register's Web page at http://www.access.gpo.gov/su_docs/aces/aces140.html.

You can also get a copy by submitting a request to the Federal Aviation Administration, Office of Rulemaking, ARM-1, 800 Independence Avenue SW., Washington, DC 20591, or by calling (202) 267-9680. Make sure to identify the docket number, notice number, or amendment number of this rulemaking.

Proprietary or Confidential Business Information

Do not file in the Docket information that you consider to be proprietary or confidential business information. Send or deliver this information directly to the person identified in the FOR FURTHER INFORMATION CONTACT section of this document. You must mark the information that you consider proprietary or confidential. If you send the information on a disk or CD ROM, mark the outside of the disk or CD ROM and also identify electronically within the disk or CD ROM the specific information that is proprietary or confidential.

Under 14 CFR 11.35(b), when we are aware of proprietary information filed with a comment, we do not place it in the docket. We hold it in a separate file to which the public does not have access, and place a note in the docket that we have received it. If we received a request to examine or copy this information, we treat it as any other request under the Freedom of Information Act (5 U.S.C. 552). We process such a request under the DOT procedures found in 49 CFR part 7.

Background

The FAA published a notice (68 FR 60572, October 22, 2003) proposing to issue regulations to govern commercial air tours throughout the United States. The notice provided for a 90 day comment period, ending on January 20, 2004.

Extension of Comment Period

We have received significant response to the NPRM, including some requests for an opportunity for the public to participate in a public forum. We are seeking broad participation in this proposed rulemaking because it may affect many small businesses and activities that are enjoyed by citizens in communities throughout the country. A traditional public meeting, or even a series of meetings, would not adequately allow broad input because the small businesses that may be affected by this proposed rule are spread throughout the United States, many of them in small communities. Many who could be most affected by the proposed rule would be unable to participate because of geography and our limited resources.

The Internet allows us to overcome the barriers of geography and limited resources. We intend to hold a virtual public meeting to allow participation by as many as possible. We will publish a Notice of Virtual Public Meeting in the Federal Register in the near future. In the meantime, we will extend the comment period for the NPRM.

In accordance with § 11.47 of Title 14, Code of Federal Regulations, the FAA has reviewed requests for an extension of the comment period in Notice No. 03-10 (68 FR 60572). The FAA finds that there is good cause and it is in the public interest to extend the comment period for an additional 90 days beyond the 90 days already provided. This will allow time for a virtual public meeting and allow the public more time to thoroughly review the issues and draft helpful comments. We believe this will help us prepare a final rule that will promote safety and minimize hardship on those the rule would affect. Accordingly, the comment period for Notice No. 03-10 is extended until April 19, 2004.

Issued in Washington, DC, on January 14, 2004.
Steven W. Douglas,
Acting Director, Flight Standards Service.

[FR Doc. 04-1129 Filed 1-14-04; 2:47 pm]

BILLING CODE 4913-10-P